NUCLEAR REGULATORY COMMISSION

[NRC-2023-0061]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by April 20, 2023. A request for a hearing or petitions for leave to intervene must be filed by May 22, 2023. This monthly notice includes all amendments issued, or proposed to be issued, from February 3, 2023, to March 2, 2023. The last monthly notice was published on February 21, 2023.

ADDRESSES: You may submit comments by any of the following methods; however, the NRC encourages electronic comment submission through the Federal rulemaking website:

• Federal Rulemaking Website: Go to https://www.regulations.gov and search for Docket ID NRC-2023-0061. Address questions about Docket IDs in Regulations.gov to Stacy Schumann; telephone: 301-415-0624; email: Stacy.Schumann@nrc.gov. For technical questions, contact the individual listed in the For Further Information Contact section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Susan Lent, Office of Nuclear Reactor Regulation, U.S. Nuclear Regulatory Commission, Washington, DC 20555-0001, telephone: 301-415-1365, email: Susan.Lent@nrc.gov.

SUPPLEMENTARY INFORMATION:

I. Obtaining Information and Submitting Comments

A. Obtaining Information

Please refer to Docket ID NRC-2023-0061, facility name, unit number(s), docket number(s), application date, and subject when contacting the NRC about the availability of information for this action. You may obtain publicly available information related to this action by any of the following methods:

• Federal Rulemaking Website: Go to https://www.regulations.gov and search for Docket ID NRC-2023-0061.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2023-0061, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any persons (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. The NRC's regulations are accessible electronically from the NRC Library on the NRC's public website at https://www.nrc.gov/reading-rm/doc-collections/cfr. If a petition is filed, the Commission or a presiding officer will rule on the petition and, if appropriate, a notice of a hearing will be issued.

As required by 10 CFR 2.309(d) the petition should specifically explain the reasons why intervention should be permitted with particular reference to the following general requirements for standing: (1) the name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions that the petitioner seeks to have litigated in the proceeding. Each contention must consist of a specific statement of the issue of law or fact to be raised or controverted. In addition, the petitioner must provide a brief explanation of the bases for the contention and a concise statement of the alleged facts or expert opinion that support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one that, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of NSHC, the Commission will make a final determination on the issue of NSHC. The final determination will serve to establish when the hearing is held. If the final determination is that the amendment request involves NSHC, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally recognized Indian Tribe, or agency thereof does not need to address the standing requirements in 10 CFR 2.309(d) if the facility is located within its boundaries. Alternatively, a State, local governmental body, Federally recognized Indian Tribe, or agency thereof may participate as a non-party under 10 CFR 2.315(c).

If a petition is submitted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name(s), docket number(s), date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Constellation Energy Generation, LLC; LaSalle County Station, Units 1 and 2; LaSalle County, IL
Docket No(s) | 50-373, 50-374.
Application date | January 12, 2023.
ADAMS Accession No | ML23013A076.
Location in Application of NSHC | Pages 9 and 10—Attachment 1.
Brief Description of Amendment(s) | The proposed amendments would revise the LaSalle County Station, Units 1 and 2, Updated Final Safety Analysis Report to allow the use of plastic section properties in the analysis of the lower downcomer braces.
Proposed Determination | NSHC.
Name of Attorney for Licensee, Mailing Address | Jason Zorn, Associate General Counsel, Constellation Energy Generation, 4300 Winfield Road Warrenville, IL 60555.
NRC Project Manager, Telephone Number | Robert Kuntz, 301-415-3733.
Constellation Energy Generation, LLC; Limerick Generating Station, Units 1 and 2; Montgomery County, PA
Docket No(s) | 50-352, 50-353.
Application date | November 17, 2022.
ADAMS Accession No | ML22321A105.
Location in Application of NSHC | Pages 18-21 of Attachment 1.
Brief Description of Amendment(s) | The proposed amendments would revise Technical Specification (TS) ¾.7.2 “Control Room Emergency Fresh Air Supply System-Common System” to TS ¾.7.2.1, and add “Control Room Air Conditioning (AC) System, TS ¾.7.2.2” and modifying certain Limiting Condition for Operation and associated surveillance requirements consistent with Technical Specification Task Force (TSTF) TS Traveler TSTF-477, Revision 3, “Add Action for Two Inoperable Control Room AC Subsystems,” and NUREG-1433, Revision 5, “Standard Technical Specifications—General Electric BWR [boiling water reactor]/4 Plants.”
Proposed Determination | NSHC.
Name of Attorney for Licensee, Mailing Address | Jason Zorn, Associate General Counsel, Constellation Energy Generation, 101 Constitution Ave. NW, Suite 400 East, Washington, DC 20001.
NRC Project Manager, Telephone Number | V. Sreenivas, 301-415-2597.
Dominion Energy Nuclear Connecticut, Inc.; Millstone Power Station, Unit No. 3; New London County, CT
Docket No(s) | 50-423.
Application date | January 13, 2023.
ADAMS Accession No | ML23013A224.
Location in Application of NSHC | Pages 7-10 of Attachment 1.
Brief Description of Amendment(s) | The proposed amendment would revise Millstone Power Station, Unit 3, Technical Specification 3.4.9.1, “Reactor Coolant System Pressure/Temperature Limits,” to reflect that the heatup and cooldown limitations in Figures 3.4-2 and 3.4-3, respectively, are applicable up to 54 effective full power years. Two typographical errors would also be corrected in the proposed amendment.
Proposed Determination | NSHC.
Name of Attorney for Licensee, Mailing Address | W.S. Blair, Senior Counsel, Dominion Energy Services, Inc., 120 Tredegar St., RS-2, Richmond, VA 23219.
NRC Project Manager, Telephone Number | Richard Guzman, 301-415-1030.
Dominion Energy South Carolina, Inc.; Virgil C. Summer Nuclear Station, Unit 1, Fairfield County, SC
Docket No(s) | 50-395.
Application date | April 22, 2022, as supplemented by letter dated June 27, 2022.
ADAMS Accession No | ML22115A104, ML22179A368.
Location in Application of NSHC | Pages 1-2 of Attachment 5.
Brief Description of Amendment(s) | The proposed amendment would modify Technical Specification surveillance requirement 4.6.2.1.d to change the frequency at which each reactor building spray nozzle must be verified to be unobstructed.
Proposed Determination | NSHC.
Name of Attorney for Licensee, Mailing Address | W.S. Blair, Senior Counsel, Dominion Energy Services, Inc., 120 Tredegar St., RS-2, Richmond, VA 23219.
NRC Project Manager, Telephone Number | G. Ed Miller, 301-415-2481.
Duke Energy Carolinas, LLC; Catawba Nuclear Station, Units 1 and 2; York County, SC; Duke Energy Carolinas, LLC; McGuire Nuclear Station, Units 1 and 2; Mecklenburg County, NC; Duke Energy Carolinas, LLC; Oconee Nuclear Station, Units 1, 2, and 3; Oconee County, SC; Duke Energy Progress, LLC; H. B. Robinson Steam Electric Plant, Unit No. 2; Darlington County, SC; Duke Energy Progress, LLC; Shearon Harris Nuclear Power Plant, Unit 1; Wake and Chatham Counties, NC
Docket No(s) | 50-413, 50-414, 50-369, 50-370, 50-269, 50-270, 50-287, 50-261, and 50-400.
Application date | February 1, 2023.
ADAMS Accession No | ML23032A162.
Location in Application of NSHC | Pages 14-16 of the Enclosure.
Brief Description of Amendment(s) | The proposed amendments would revise the Surveillance Requirement (SR) Frequency for Reactor Coolant System pressure isolation valve operational leakage testing to reflect being in accordance with the Inservice Testing Program, as governed by 10 CFR 50.55a. Specifically, this change would update Technical Specification (TS) SR 3.4.14.1 for Catawba Nuclear Station (CNS), McGuire Nuclear Station (MNS), Oconee Nuclear Station, and H.B. Robinson Steam Electric Plant and TS SR 4.4.6.2.2 for Shearon Harris Nuclear Power Plant. An additional revision is proposed to CNS and MNS TS SR 3.3.1.8 to remove restrictive surveillance frequency content that impedes the full application of the Surveillance Frequency Control Program to establish the frequency for performance of the Channel Operational Test of select Reactor Trip System instrumentation.
Proposed Determination | NSHC.
Name of Attorney for Licensee, Mailing Address | Tracey Mitchell LeRoy, Deputy General Counsel, Duke Energy Corporation, 4720 Piedmont Row Dr., Charlotte, NC 28210.
NRC Project Manager, Telephone Number | Shawn Williams, 301-415-1009.
Indiana Michigan Power Company; Donald C. Cook Nuclear Plant, Units 1 and 2; Berrien County, MI
Docket No(s) | 50-315, 50-316.
Application date | January 26, 2023.
ADAMS Accession No | ML23026A284.
Location in Application of NSHC | Pages 9-10 of Enclosure 2.
Brief Description of Amendment(s) | The proposed amendments would revise Technical Specification (TS) 3.3.3, “Post Accident Monitoring (PAM) Instrumentation” to remove Function 1, Neutron Flux, from the list of required PAM instrumentation.
Proposed Determination | NSHC.
Name of Attorney for Licensee, Mailing Address | Robert B. Haemer, Senior Nuclear Counsel, Indiana Michigan Power Company, One Cook Place, Bridgman, MI 49106.
NRC Project Manager, Telephone Number | Scott Wall, 301-415-2855.
Southern Nuclear Operating Company, Inc.; Joseph M. Farley Nuclear Plant, Units 1 and 2; Houston County, AL; Southern Nuclear Operating Company, Inc.; Vogtle Electric Generating Plant, Units 1 and 2; Burke County, GA
Docket No(s) | 50-348, 50-364, 50-424, 50-425.
Application date | October 14, 2022, as supplemented by letter dated December 9, 2022.
ADAMS Accession No | ML22287A174, ML22343A255.
Location in Application of NSHC | Pages E-25 to E-27 of Enclosure.
Brief Description of Amendment(s) | The proposed license amendment requests (LAR) would revise Technical Specifications (TS) 3.2.1, “Heat Flux Hot Channel Factor (FQ(Z)),” to adopt the TS changes described in Appendix A or Appendix D (as applicable) of Westinghouse topical report WCAP-17661-P-A, Revision 1, to address the issues identified in Westinghouse Nuclear Safety Advisory Letter (NSAL)-09-5, Revision 1, “Relaxed Axial Offset Control FQ Technical Specification Actions,” and NSAL-15-1, “Heat Flux Hot Channel Factor Technical Specification Surveillance.” The proposed LAR would revise the TSs, to the extent necessary, to adopt several technical specification task force (TSTF) travelers to align the Vogtle, Units 1 and 2, and Farley, Units 1 and 2, TSs with the FQ formulations and required actions of TS 3.2.1B of NUREG-1431, “Standard Technical Specifications Westinghouse Plants,” Revision 4. Additionally, the licensee proposes in this LAR to change the Vogtle, Units 1 and 2, and Farley, Units 1 and 2, TSs 5.6.5, 3, to include WCAP-17661-P-A, Revision 1, in the list of the NRC approved methodologies used to develop the cycle specific Core Operating Limits Report.
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Southern Nuclear Operating Company, Inc.; Vogtle Electric Generating Plant, Units 1 and 2; Burke County, GA
Docket No(s) | 50-424, 50-425.
Application date | February 9, 2023.
ADAMS Accession No | ML23040A432.
Location in Application of NSHC | Pages E-4 to E-6 of Enclosure.
Brief Description of Amendment(s) | The proposed license amendment requests (LAR) would revise Vogtle, Units 1 and 2, Technical Specification (TS) 5.5.11, “Ventilation Filter Testing Program (VFTP).” The proposed LAR would revise the charcoal adsorber penetration acceptance criteria for the Control Room Emergency Filtration System (CREFS), item number 5.5.11.c from 0.2-percent to 0.5-percent.
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Southern Nuclear Operating Company, Inc.; Vogtle Electric Generating Plant, Units 3 and 4; Burke County, GA
Docket No(s) | 52-025, 52-026.
Application date | October 14, 2022, as supplemented by letter dated December 9, 2022.
ADAMS Accession No | ML22287A174, ML22343A255.
Location in Application of NSHC | Pages E-25 to E-27 of Enclosure.
Brief Description of Amendment(s) | The proposed license amendment requests (LAR) would revise Technical Specifications (TS) 3.2.1, “Heat Flux Hot Channel Factor (FQ(Z)),” to adopt the TS changes described in Appendix A or Appendix D (as applicable) of Westinghouse topical report WCAP-17661-P-A, Revision 1, to address the issues identified in Westinghouse Nuclear Safety Advisory Letter (NSAL)-09-5, Revision 1, “Relaxed Axial Offset Control FQ Technical Specification Actions,” and NSAL-15-1, “Heat Flux Hot Channel Factor Technical Specification Surveillance.” Additionally, Southern Nuclear Operating Company, Inc. proposes in this LAR to change the Vogtle, Units 3 and 4, TS 5.6.3, “Core Operating Limits Report (COLR),” to include WCAP-17661-P-A, Revision 1, in the list of the NRC approved methodologies used to develop the cycle specific COLR.
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Southern Nuclear Operating Company, Inc.; Vogtle Electric Generating Plant, Units 3 and 4; Burke County, GA.
Docket No(s) | 52-025, 52-026.
Application date | January 3, 2023.
ADAMS Accession No | ML23003A797.
Location in Application of NSHC | Pages 24-26 of Enclosure 1.
Brief Description of Amendment(s) | The proposed amendment requests would modify specific technical specifications (TS) for Units 3 and 4. The proposed change would revise Combined License Appendix A, TS 3.8.3, “Inverters—Operating,” to extend the completion time for required Action A.1 from 24 hours to 14 days. Additionally, TS 3.3.9, “Engineered Safety Feature Actuation System (ESFAS) Manual Initiation,” Condition C proposed change would replace misspelled “Requried” with “Required.”
Proposed Determination | NSHC.
Name of Attorney for Licensee, Mailing Address | Millicent Ronnlund, Vice President and General Counsel, Southern Nuclear Operating Co., Inc., P.O. Box 1295, Birmingham, AL 35201-1295.
NRC Project Manager, Telephone Number | William Gleaves, 301-415-5848.
Tennessee Valley Authority; Browns Ferry Nuclear Plant, Units 1, 2, and 3; Limestone County, AL; Tennessee Valley Authority; Sequoyah Nuclear Plant, Units 1 and 2; Hamilton County, TN
Docket No(s) | 50-259, 50-260, 50-296, 50-327, 50-328.
Application date | January 31, 2023.
ADAMS Accession No | ML23031A247.
Location in Application of NSHC | Pages 5-6 of the Enclosure.
Brief Description of Amendment(s) | The proposed amendments would modify Technical Specification Surveillance Requirements (SRs) by adding exceptions to consider the SR met when automatic valves or dampers are locked, sealed, or otherwise secured in the actuated position, in order to consider the SR met. These modifications are in accordance with Technical Specification Task Force (TSTF)-541-A, Revision 2, “Add Exceptions to Surveillance Requirements for Valves and Dampers Locked in the Actuated Position.”
Proposed Determination | NSHC.
Name of Attorney for Licensee, Mailing Address | David Fountain, Executive VP and General Counsel, Tennessee Valley Authority, 6A West Tower, 400 West Summit Hill Drive, Knoxville, TN 37902.
NRC Project Manager, Telephone Number | Perry Buckberg, 301-415-1383.
Virginia Electric and Power Company, Dominion Nuclear Company; North Anna Power Station, Units 1 and 2; Louisa County, VA
Docket No(s) | 50-338, 50-339.
Application date | January 13, 2023.
ADAMS Accession No | ML23013A195.
Location in Application of NSHC | Pages 25 to 27 of Attachment 1.
Brief Description of Amendment(s) | The proposed amendments would relocate the Technical Support Center to a building outside the Protected Area, as described in the submittal.
Proposed Determination | NSHC.
Name of Attorney for Licensee, Mailing Address | W.S. Blair, Senior Counsel, Dominion Energy Services, Inc., 120 Tredegar St., RS-2, Richmond, VA 23219.
NRC Project Manager, Telephone Number | G. Ed Miller, 301-415-2481.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuance(s)
Constellation Energy Generation, LLC; Braidwood Station, Units 1 and 2, Will County, IL; Byron Station, Unit Nos. 1 and 2, Ogle County, IL; Constellation Energy Generation, LLC; R. E. Ginna Nuclear Power Plant; Wayne County, New York
Docket No(s) | 50-456, 50-457, 50-454, 50-455, 50-244.
Amendment Date | March 1, 2023.
ADAMS Accession No | ML22364A024.
Amendment No(s) | Braidwood (Unit 1) 231 (Unit 2) 231; Byron (Unit 1) 232 (Unit 2) 232; Ginna (Unit 1) 154.
Brief Description of Amendment(s) | The amendments are revised to be consistent with NRC-approved Technical Specifications Task Force (TSTF)-246 Traveler, Revision 0, “Reactor Trip System Instrumentation, Technical Specification (TS) 3.3.1, Condition F, Completion Time,” dated February 20, 1998, which revised the completion time of the limiting conditions for operation TS 3.3.1, Condition F, from 2 hours to 24 hours.
Public Comments Received as to Proposed NSHC (Yes/No) | No.
Constellation Energy Generation, LLC; Clinton Power Station, Unit No. 1; DeWitt County, IL
Docket No(s) | 50-461.
Amendment Date | March 1, 2023.
ADAMS Accession No | ML23031A297.
Amendment No(s) | 248.
Brief Description of Amendment(s) | The amendment revised Technical Specification (TS) 3.6.1.3, “Primary Containment Isolation Valves (PCIVs),” TS 3.6.4.2, “Secondary Containment Isolation Dampers (SCIDs),” and TS 3.6.5.3, “Drywell Isolation Valves,” to allow isolation devices that are locked, sealed, or otherwise secured, to be verified by use of administrative means. The amendment is consistent with NRC-approved Technical Specification Task Force (TSTF) Traveler 269-A, Revision 2, “Allow Administrative Means of Position Verification for Locked or Sealed Valves,” dated June 27, 1999.
Public Comments Received as to Proposed NSHC (Yes/No) | No.
Constellation Energy Generation, LLC; Limerick Generating Station, Units 1 and 2; Montgomery County, PA
Docket No(s) | 50-352, 50-353.
Amendment Date | February 23, 2023.
ADAMS Accession No | ML23005A008.
Amendment No(s) | 259 (Unit 1), 221 (Unit 2).
Brief Description of Amendment(s) | The amendments revised the technical specifications (TSs) table 3.3.2-1, Isolation Actuation Instrumentation, Trip Function 1.g for Main Steam Line Isolation to correct an administrative error introduced by a previous license amendment that modified TS 3.3.2, “Isolation Actuation Instrumentation,” among several changes.
Public Comments Received as to Proposed NSHC (Yes/No) | No.
Constellation Energy Generation, LLC; Quad Cities Nuclear Power Station, Units 1 and 2; Rock Island County, IL
Docket No(s) | 50-254, 50-265.
Amendment Date | February 6, 2023.
ADAMS Accession No | ML22347A241.
Amendment No(s) | Unit 1-294, Unit 2-290.
Brief Description of Amendment(s) | The amendments revised Technical Specification 5.6.5, “Core Operating Limits Report (COLR)” paragraph b, to add Report 0006N8642-P, Revision 1, “Justification of PRIME Methodologies for Evaluating TOP [Thermal Overpower] and MOP [Mechanical Overpower] Compliance for non-GNF [Global Nuclear Fuel] Fuels,” January 2022.
Public Comments Received as to Proposed NSHC (Yes/No) | No.
Dominion Energy South Carolina, Inc.; Virgil C. Summer Nuclear Station, Unit 1, Fairfield County, SC
Docket No(s) | 50-395.
Amendment Date | February 21, 2023.
ADAMS Accession No | ML23012A015.
Amendment No(s) | 224.
Brief Description of Amendment(s) | The amendment modified Technical Specification 4.6.2.1.d to change the frequency at which each reactor building spray nozzle must be verified to be unobstructed.
Public Comments Received as to Proposed NSHC (Yes/No) | No.
Energy Harbor Nuclear Corp. and Energy Harbor Nuclear Generation LLC; Perry Nuclear Power Plant, Unit No. 1; Lake County, OH
Docket No(s) | 50-440.
Amendment Date | February 3, 2023.
ADAMS Accession No | ML22284A144.
Amendment No(s) | 200.
Brief Description of Amendment(s) | The amendment revised the methodology used for analysis of flooding hazards and drainage within the local intense precipitation domain and reflects the results of the new flood hazard protection scheme in the Updated Safety Analysis Report; and adds a new limiting condition for operation to the technical specifications (TSs) as TS 3.7.11, “Flood Protection,” and make conforming changes to the TS Table of Contents.
Public Comments Received as to Proposed NSHC (Yes/No) | No.
Entergy Operations, Inc.; Waterford Steam Electric Station, Unit 3; St. Charles Parish, LA
Docket No(s) | 50-382.
Amendment Date | February 17, 2023.
ADAMS Accession No | ML22322A109.
Amendment No(s) | 270.
Brief Description of Amendment(s) | The amendment revised the technical specification requirements to permit the use of risk informed completion times in accordance with Technical Specifications Task Force (TSTF) Traveler (TSTF-505), Revision 2, “Provide Risk-Informed Extended Completion Times—RITSTF [Risk-Informed TSTF] Initiative 4b.”
Public Comments Received as to Proposed NSHC (Yes/No) | No.
National Institute of Standards and Technology, NIST Center for Neutron Research Test Reactor, Montgomery County, Maryland
Docket No(s) | 50-184.
Amendment Date | February 1, 2023.
ADAMS Accession No | ML23020A911.
Amendment No(s) | 14.
Brief Description of Amendment(s) | The amendment authorized the updated safety analysis report (SAR) for the National Bureau of Standards Test Reactor (NBSR). Specifically, the amendment modified the SAR to address potential impacts to the facility equipment, as described in chapter 5 of the SAR, as well as changes to the facility radiation sources, as described in chapter 11 of the SAR as a result of some debris remaining in the NBSR primary coolant system following the February 3, 2021, event.
Public Comments Received as to Proposed NSHC (Yes/No) | No.
Nine Mile Point Nuclear Station, LLC and Constellation Energy Generation, LLC; Nine Mile Point Nuclear Station, Unit 1; Oswego County, NY
Docket No(s) | 50-220.
Amendment Date | February 28, 2023.
ADAMS Accession No | ML23025A412.
Amendment No(s) | 248.
Brief Description of Amendment(s) | The amendment revised Nine Mile Point Nuclear Station, Unit 1, licensing basis analysis associated with the post-loss-of-coolant accident alternative source term analysis for containment leakage.
Public Comments Received as to Proposed NSHC (Yes/No) | No.
Pacific Gas and Electric Company; Diablo Canyon Nuclear Power Plant, Units 1 and 2; San Luis Obispo County, CA
Docket No(s) | 50-275, 50-323.
Amendment Date | February 9, 2023.
ADAMS Accession No | ML23012A217.
Amendment No(s) | 244 (Unit 1) and 245 (Unit 2).
Brief Description of Amendment(s) | The amendments revised technical specification definitions for engineered safety feature response time and reactor trip system response time to adopt Technical Specifications Task Force (TSTF) Traveler TSTF-569, Revision 2, “Revise Response Time Testing Definition.”
Public Comments Received as to Proposed NSHC (Yes/No) | No.
R.E. Ginna Nuclear Power Plant, LLC and Constellation Energy Generation, LLC; R.E. Ginna Nuclear Power Plant; Wayne County, NY
Docket No(s) | 50-244.
Amendment Date | February 22, 2023.
ADAMS Accession No | ML23005A122.
Amendment No(s) | 152.
Brief Description of Amendment(s) | The amendment revised the technical specification (TS) to the renewed facility operating license to TS 3.1.8, “PHYSICS TESTS Exceptions—MODE 2,” to allow one power range neutron flux channel to be bypassed when that channel is used during the performance of physics testing in MODE 2.
Public Comments Received as to Proposed NSHC (Yes/No) | No.
R.E. Ginna Nuclear Power Plant, LLC and Constellation Energy Generation, LLC; R.E. Ginna Nuclear Power Plant; Wayne County, NY
Docket No(s) | 50-244.
Amendment Date | February 23, 2023.
ADAMS Accession No | ML23005A176.
Amendment No(s) | 153.
Brief Description of Amendment(s) | The amendment revised Technical Specification (TS) 3.7.10 “Auxiliary Building Ventilation System” deleted 3.7.10.3 Surveillance Requirements, deleted TS 5.5.10(c) Spent Fuel Pool (SFP) Charcoal Adsorber System for the Ventilation Filter Testing Program, additions to TS 5.6.5 “CORE OPERATING LIMITS REPORT (COLR), and an update to TS 5.5.15 “Containment Leakage Rate Testing Program.”
Public Comments Received as to Proposed NSHC (Yes/No) | No.
Southern Nuclear Operating Company, Inc.; Edwin I. Hatch Nuclear Plant, Unit Nos. 1 and 2; Appling County, GA
Docket No(s) | 50-321, 50-366.
Amendment Date | February 9, 2023.
ADAMS Accession No | ML22346A148.
Amendment No(s) | 320 (Unit 1), 265 (Unit 2).
Brief Description of Amendment(s) | Southern Nuclear Operating Company (SNC) requested adoption of Technical Specifications Task Force (TSTF) Traveler TSTF-208, Revision 0, “Extension of Time to Reach Mode 2 in LCO 3.0.3.” Specifically, the amendments extended the allowed time to reach Mode 2 in Limiting Condition for Operation 3.0.3 from 7 hours to 10 hours. In addition, SNC also requested an administrative change for deletion of a duplicate TS 3.4.10, on TS Page 3.4-25 of each unit's TS. These amendments also deleted the duplication.
Public Comments Received as to Proposed NSHC (Yes/No) | No.
Southern Nuclear Operating Company, Inc.; Edwin I. Hatch Nuclear Plant, Unit Nos. 1 and 2; Appling County, GA
Docket No(s) | 50-321, 50-366.
Amendment Date | February 15, 2023.
ADAMS Accession No | ML22363A393.
Amendment No(s) | 321 (Unit 1), 266 (Unit 2).
Brief Description of Amendment(s) | The amendments revised Renewed Facility Operating License (RFOL) No. NPF-5 for Edwin I. Hatch Nuclear Plant (HNP) Unit 1 and RFOL No. DPR-57 for HNP Unit 2. This revision references an updated Table S-2 that reflects additional plant modifications necessary to comply with the National Fire Protection Association Standard (NFPA) 805 program.
Public Comments Received as to Proposed NSHC (Yes/No) | No.
STP Nuclear Operating Company; South Texas Project, Units 1 and 2; Matagorda County, TX
Docket No(s) | 50-498, 50-499.
Amendment Date | February 6, 2023.
ADAMS Accession No | ML23015A001.
Amendment No(s) | 225 (Unit 1) and 210 (Unit 2).
Brief Description of Amendment(s) | The amendments adopted Technical Specifications Task Force (TSTF) Traveler TSTF-554, Revision 1, “Revise Reactor Coolant Leakage Requirements,” which is an approved change to the Standard Technical Specifications (TSs), into the South Texas Project, Units 1 and 2 TSs. The amendments revised the TS definition of “Leakage,” clarified the requirements when pressure boundary leakage is detected and added a required action when pressure boundary leakage is identified. The model safety evaluation was approved by the NRC in a letter dated April 20, 2021 (ADAMS Package Accession No. ML21106A249), using the consolidated line-item improvement process.
Public Comments Received as to Proposed NSHC (Yes/No) | No.
Tennessee Valley Authority; Browns Ferry Nuclear Plant, Units 1, 2, and 3; Limestone County, AL
Docket No(s) | 50-259, 50-260, 50-296.
Amendment Date | March 16, 2022.
ADAMS Accession No | ML22020A228.
Amendment No(s) | 320 (Unit 1); 343 (Unit 2); 303 (Unit 3).
Brief Description of Amendment(s) | The amendments revised Technical Specification (TS) 3.6.2.6 (correlates to boiling water reactor (BWR)/4 TS 3.6.2.5), “Drywell-to-Suppression Chamber Differential,” TS 3.6.3.2, “Primary Containment Oxygen Concentration,” based on TS Task Force (TSTF) Traveler TSTF-568, Revision 2, “Revise Applicability of BWR/4 TS 3.6.2.5 and TS 3.6.3.2,” (ADAMS Accession No. ML19141A122), and the associated NRC safety evaluation for TSTF-568 (ADAMS Accession No. ML19325C434).
Public Comments Received as to Proposed NSHC (Yes/No) | No.
Tennessee Valley Authority; Sequoyah Nuclear Plant, Units 1 and 2; Hamilton County, TN
Docket No(s) | 50-327, 50-328.
Amendment Date | February 6, 2023.
ADAMS Accession No | ML22334A073.
Amendment No(s) | 363 (Unit 1), 357 (Unit 2).
Brief Description of Amendment(s) | The amendments incorporated the use of the peer reviewed, plant-specific Sequoyah Nuclear Plant Seismic Probabilistic Risk Assessment and Fire Probabilistic Risk Assessment models into the previously approved 10 CFR 50.69 categorization process.
Public Comments Received as to Proposed NSHC (Yes/No) | No.
Union Electric Company; Callaway Plant, Unit No. 1; Callaway County, MO
Docket No(s) | 50-483.
Amendment Date | February 24, 2023.
ADAMS Accession No | ML22361A070.
Amendment No(s) | 231.
Brief Description of Amendment(s) | The amendment authorized the following two changes to the Callaway Plant, Unit No. 1 Radiological Emergency Response Plan: (1) Removal of the 15-minute response goal/30-minute activation goal during “Normal Work Hours” and allow the current 75-minute response/90-minute activation goal for “Off-Normal Hours” to be the standard for all hours of the day and (2) Elimination of the 30-minute follow-up notification for the State of Missouri and emergency planning zone (EPZ) counties and implement a 60-minute follow-up notification until the plant conditions are relatively stable such that the follow-up notification frequency may be reduced to an agreed upon frequency, with the consensus of the State Emergency Management Agency and the EPZ counties, when event condition are relatively stable.
Public Comments Received as to Proposed NSHC (Yes/No) | No.

Dated: March 9, 2023.
For the Nuclear Regulatory Commission.
Gregory F. Suber,
Deputy Director, Division of Operating Reactor Licensing, Office of Nuclear Reactor Regulation.

[FR Doc. 2023-05198 Filed 3-20-23; 8:45 am]

BILLING CODE 7590-01-P